DEPARTMENT OF TRANSPORTATION

National Highway Traffic Safety Administration

Reports, Forms, and Record Keeping Requirements Agency Information Collection Activity Under OMB Review

AGENCY: National Highway Traffic Safety Administration (NHTSA), DOT.

ACTION: Notice of the OMB review of information collection; request for comments.

SUMMARY: In compliance with the Paperwork Reduction Act of 1995, this notice announces that the Information Collection Request (ICR) abstracted below will be submitted to the Office of Management and Budget (OMB) for review. A Federal Register Notice with a 60-day comment period soliciting public comments on this information collection was published on August 24, 2017 (Federal Register/Vol. 82, No. 109/pp. 34152-34154).

DATES: Submit comments on or before August 16, 2018.

ADDRESSES: Submit comments through one of the following methods:

• Electronically through http://www.regulations.gov. Follow the on-line instructions for submitting comments.

• Mail and Hand Delivery/Courier to: Office of Information and Regulatory Affairs, Office of Management and Budget (OMB), 725 17th Street NW, Washington, DC 20503, Attention NHTSA Desk Officer.

FOR FURTHER INFORMATION CONTACT: Kathryn Wochinger, Office of Behavioral Safety Research (NPD-310), NHTSA, W46-487, 1200 New Jersey Avenue SE, Washington, DC 20590. Dr. Wochinger's phone number is (202) 366-4300, and email address is kathryn.wochinger@dot.gov.

SUPPLEMENTARY INFORMATION:

Title: State of the Practice of Ignition Interlock Programs.

Form No.: NHTSA Form 1450 (questionnaire) and 1451 (discussion guide).

Type of Review: Regular.

Abstract: Alcohol impairment is one of the primary causes of motor vehicle crashes on the Nation's highways. For example, 28 percent of all motor vehicle traffic fatalities in 2016 involved alcohol-impairment. One countermeasure to alcohol-impaired driving is the ignition interlock, and nearly every State, the District of Columbia and Puerto Rico deliver interlock services for Driving While Impaired (DWI) offenders. Highway safety officials and traffic safety advocates identified a need for an inventory of interlock programs to support program management by documenting lessons learned and identifying solutions to common problems. The collected information would be from publicly available sources such as program websites, and from program administrators and staff. Administrators would be invited to take a 15-minute online self-administered questionnaire, and administrators and staff would be invited to participate in a semi-structured interview over the telephone, up to one hour (with one interview per program).

Respondents: Respondents will be administrators and staff of alcohol ignition interlock programs. There are up to 52 interlock programs; with nearly one in each state, the District of Columbia, and Puerto Rico.

Estimated Number of Respondents: 260 (If 52 administrators and four staff per program were to respond).

Estimated Time per Response: The expected average completion time for the questionnaire is 15 minutes, and for the group phone interview it is 60 minutes.

Estimate of the Total Annual Reporting and Record Keeping Burden Resulting from the Collection of Information: Participants will incur no burden related to annual reporting or record keeping due to the collection of information.

Total Estimated Annual Burden Hours: A total of 273 hours: The estimated burden hours for the questionnaire is 13 hours (52 administrators × .25 hours to take the questionnaire), and the estimated burden hours for the group interviews is 260 hours (260 people × 1 hour).

Frequency of Collection: The information collection will be administered a single time.

Previous Notice: A 60-day notice in the Federal Register on August 24, 2017 received three comments. The first comment recommended that the questionnaire and the topics of the group interview be provided ahead of time with the managers of each program's transportation department, to allow managers the opportunity to provide guidance to the staff. NHTSA concurs with this request. The second request was that the information collection should “not ask for judgments” about a department. NHTSA concurs with this request, as the collected information is on features and facts of the programs. The third comment was that “other approaches to combatting impaired driving” warrant support. NHTSA concurs with this comment.

Comments are Invited: Comments are invited on whether the proposed collection of information is (a) necessary for the Department's performance; (b) the accuracy of the estimated burden; (c) ways for the Department to enhance the quality, utility and clarity of the information collection; and (d) ways that the burden could be minimized without reducing the quality of the collected information.

A comment to OMB is most effective if OMB receives it within 30 days of publication of this notice.

Authority: The Paperwork Reduction Act of 1995; 44 U.S.C. Section 3506(c)(2)(A).

Issued in Washington, DC, on July 12, 2018.
Jeff Michael,
Associate Administrator, Research and Program Development.

[FR Doc. 2018-15210 Filed 7-16-18; 8:45 am]

BILLING CODE 4910-59-P